DEPARTMENT OF TRANSPORTATION

Coast Guard

33 CFR Part 117

[CGD08-00-017]

Drawbridge Operating Regulation; Bayou Boeuf, LA

AGENCY: Coast Guard, DOT.

ACTION: Notice of temporary deviation from regulations.

SUMMARY: The Commander, Eighth Coast Guard District has issued a temporary deviation from the regulation in 33 CFR 117 governing the operation of the Burlington Northern Santa Fe Railway, swing span bridge across Bayou Boeuf, mile 10.2, near Amelia, Louisiana. This deviation allows the Burlington Northern Railroad to close the bridge to navigation from 8 a.m. until 5 p.m. and from 7 p.m. until 6 a.m. from August 21, 2000 through August 23, 2000. Presently, the draw is required to open on signal. This temporary deviation is issued to allow for replacement of the bevel gear and shaft, which are part of the locking wedge drive mechanism.

DATES: This deviation is effective from 8 a.m. on Monday, August 21, 2000 through 5 p.m. on Wednesday, August 23, 2000.

ADDRESSES: Unless otherwise indicated, documents referred to in this notice are available for inspection or copying at the office of the Eighth Coast Guard District, Bridge Administration Branch, Commander (ob), 501 Magazine Street, New Orleans, Louisiana 70130-3396. The Bridge Administration Branch maintains the public docket for this temporary deviation.

FOR FURTHER INFORMATION CONTACT: Phil Johnson, Bridge Administration Branch, telephone (504) 589-2965.

SUPPLEMENTARY INFORMATION: The Bayou Boeuf swing span bridge across Bayou Boeuf, mile 10.2, near Amelia, St. Mary and Assumption Parishes, Louisiana, has a vertical clearance of 6 feet above high water in the closed-to-navigation position and unlimited clearance in the open-to-navigation position. Navigation on the waterway consists of small tugs with tows, fishing vessels, and recreational craft. The Burlington Northern Santa Fe Railway Company requested a temporary deviation from the normal operation of the drawbridge in order to accommodate the maintenance work, involving removal and replacement of the bevel gear and shaft, components of the locking wedge drive mechanism. This maintenance is necessary for the continued operation of the bridge.

This deviation allows the draw of the Bayou Boeuf swing span drawbridge across Bayou Boeuf, mile 10.2, to remain closed to navigation from 8 a.m. until 5 p.m. and from 7 p.m. until 6 a.m. from August 21, 2000 through August 23, 2000.

Dated: August 7, 2000.
Paul J. Pluta,
Rear Admiral, U.S. Coast Guard, Commander, Eighth Coast Guard District.

[FR Doc. 00-20948 Filed 8-16-00; 8:45 am]

BILLING CODE 4910-15-M